DEPARTMENT OF TRANSPORTATION

Pipeline and Hazardous Materials Safety Administration

Office of Hazardous Materials Safety

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on March 19, 2014.
Donald Burger,
Chief, General Approvals and Permits.

Application No. | Applicant | Reason for delay | Estimated date of completion
Modification to Special Permits
15577-M | Olin Corporation, Oxford, MS | 4 | 03-31-2014
12184-M | Weldship Corporation, Bethlehem, PA | 4 | 04-30-2014
11373-M | Marlin Company, Inc., Lenoir, NC | 4 | 03-31-2014
15642-M | Praxair Distribution, Inc., Danbury, CT | 4 | 04-30-2014
14867-M | GTM Manufacturing LLC, Amarillo, TX | 4 | 03-31-2014
9610-M | ATK Small Caliber Systems, Independece, MO | 4 | 03-31-2014
15854-M | Colmac Coil Manufacturing, Inc., Colville WA | 4 | 03-31-2014
New Special Permit Applications
15863-N | Baker Hughes Oilfield Operations Inc., Houston, TX | 3 | 03-31-2014
15882-N | Ryan Air, Anchorage, AK | 4 | 03-31-2014
15883-N | The Boeing Company, Canoga Park, CA | 4 | 03-31-2014
15767-N | Union Pacific Railroad Company, Omaha, NE | 1 | 03-31-2014
15853-N | Praxair, Inc., Danbury, CT | 4 | 03-31-2014
15847-N | Safariland, LLC, Jacksonville, FL | 4 | 03-31-2014
15880-N | Viking Packing Specialist, Catoosa, OK | 4 | 03-31-2014
15954-N | Rooney Oilfield Services, Odessa, TX | 4 | 04-15-2014
15972-N | Heil Trailer International, Co., Athens, TN | 4 | 04-30-2014
15955-N | Thompson Tank, Inc., Lakewood, CA | 4 | 04-15-2014
15962-N | U.S. Department of Defense (DOD), Scott AFB, IL | 4 | 03-31-2014
16120-N | Pacific Helicopter Tours, Inc. | 4 | 04-30-2014
Party to Special Permits Applications
15647-P | Allied Universal Corporation, Miami, FL | 3 | 03-31-2014
15647-P | SUINCA C.A., Caracas | 4 | 03-31-2014
Renewal Special Permits Applications
14155-R | American Promotional Events, Inc., North-West dba/TNT Fireworks, Florence, AL | 2, 3 | 02-28-2014
7954-R | Linde LLC, Murray Hill, NJ | 4 | 03-31-2014
14267-R | LATA Environmental Services of Kentucky, LLC (LATA Kentucky), Kevil, KY | 3 | 03-31-2014
15392-R | Brim Equipment Leasing, Inc., dba Brim Aviation, Ashland, OR | 4 | 03-31-2014
8971-R | Baker Hughes Oilfield Operations Inc., Houston, TX | 4 | 03-31-2014
11602-R | East Tennessee Iron & Metal, Inc., Rogersville, TN | 4 | 04-30-2014
11583-R | Alaska Railroad Corporation, Anchorage, AK | 4 | 03-15-2014
13548-R | Hartel Services, Inc., dba Interstate Battery System of North Dakota, Fargo, ND | 4 | 03-31-2014
13548-R | C & S Sutton Co. Inc., St. Clairsville, OH | 4 | 03-31-2014

[FR Doc. 2014-06868 Filed 3-28-14; 8:45 am]

BILLING CODE 4910-60-M